NUCLEAR REGULATORY COMMISSION

[Docket Nos. 50-373 and 50-374]

LaSalle County Station, Units 1 and 2; Notice of Withdrawal of Application for Amendment to Facility Operating License

The U.S. Nuclear Regulatory Commission (the Commission) has granted the request of Exelon Generation Company (EGC), LLC, formerly Commonwealth Edison Company (ComEd), to withdraw its November 10, 2000, application for proposed amendment to Facility Operating License Nos. NPF-11 and NPF-18 for the LaSalle County Station, Units 1 and 2, located in LaSalle County, Illinois.

The proposed amendment would have revised several sections of the Technical Specifications (TS) and added a new TS section to incorporate Oscillation Power Range Monitor (OPRM) Instrumentation.

The Commission had previously issued a Notice of Consideration of Issuance of Amendment published in the Federal Register on December 27, 2000 (65 FR 81911). However, by letter dated September 6, 2001, the licensee withdrew the proposed change. The withdrawal request was based on the extended time period General Electric Company is projecting to resolve the OPRM issue (i.e., 12 to 18 months), potential changes needed to the licensee submittals to address the non-conservative OPRM assumptions, and discussions with the Commission staff on August 7, 2001.

For further details with respect to this action, see the application for amendment dated November 10, 2000, and the licensee's letter dated September 6, 2001, which withdrew the application for license amendment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS. If you do not have access to ADAMS or if there are problems in accessing the documents located in ADAMS, contact the NRC Public Document Room (PDR) Reference staff at 1-800-397-4209, 301-415-4737 or by e-mail to pdr@nrc.gov.

Dated at Rockville, Maryland, this 4th day of October 2001.
For the Nuclear Regulatory Commission.
William A. Macon, Jr.,
Project Manager, Section 2, Project Directorate III, Division of Licensing Project Management, Office of Nuclear Reactor Regulation.

[FR Doc. 01-25888 Filed 10-12-01; 8:45 am]

BILLING CODE 7590-01-P